DEPARTMENT OF TRANSPORTATION

Federal Aviation Administration

Public Notice for a Change in Use of Aeronautical Property at Addington Field, Elizabethtown, KY

AGENCY: Federal Aviation Administration (FAA), DOT.

ACTION: Request for Public Comment.

SUMMARY: Under the provisions of Title 49, U.S.C. 47153(c), the Federal Aviation Administration is requesting public comment on the Elizabethtown Airport Board's request to change a portion (0.069 acres) of airport property from aeronautical use to non-aeronautical use. The property is to be sold to The Commonwealth of Kentucky for the widening of Kentucky State Highway 1357 (St. John Road).

The 0.069 acres is located approximately 2600 feet northeast of Addington Field Airport Runway 23, at the intersection of St. John and Ring Roads.

DATES: Comments must be received on or before November 17, 2005.

ADDRESSES: Comments on this notice may be mailed or delivered in triplicate to the FAA at the following address: Memphis Airports District Office, 2862 Business Park Drive, Building G, Memphis, TN 38118-1555.

In addition, one copy of any comments submitted to the FAA must be mailed or delivered to Mr. Joseph B. Yates, Chairman, Elizabethtown Airport Board at the following address: 1828 Kitty Hawk Drive, Elizabethtown, Kentucky 42701.

FOR FURTHER INFORMATION CONTACT: Tommy L. Depree, Airports Program Manager, Memphis Airports District Office, 2862 Business Park Drive, Building G, Memphis, TN 38118-1555, (901) 322-8185. The application may be reviewed in person at this same location.

SUPPLEMENTARY INFORMATION: The FAA is reviewing a request by Elizabethtown Airport Board to release 0.069 acres of aeronautical property at Addington Field, Elizabethtown, Kentucky. The property will be purchased by The Commonwealth of Kentucky for the widening of State Highway 1357 (St. John Road).

A detailed legal description of the property proposed for release can be requested or seen at either of the contacts given above. However, the general description is the 0.069 acres is located approximately 2600 feet northeast of Addington Field Airport Runway 23, at the intersection of St. John and Ring Roads.

The net proceeds from the non-aeronautical use or the sale of this property will be used for airport purposes.

Any person may inspect the request in person at the FAA office listed above under FOR FURTHER INFORMATION CONTACT. In addition, any person may, upon request, inspect the request, notice and other documents germane to the request in person at the Elizabethtown Airport Board.

Issued in Memphis, Tennessee on October 11, 2005.
Charles L. Harris,
Acting Manager, Memphis Airports District Office, Southern Region.

[FR Doc. 05-20847 Filed 10-17-05; 8:45am]

BILLING CODE 4910-13-M